SECURITIES AND EXCHANGE COMMISSION

Sunshine Act Meeting

Federal Register Citation of Previous Announcement: [74 FR 41466, August 17, 2009].

Status: Closed Meeting.

Place: 100 F Street, NE., Washington, DC.

Date and Time of Previously Announced Meeting: Thursday, August 20, 2009 at 2 p.m.

Change in the Meeting: Cancellation of Meeting.

The Closed Meeting scheduled for Thursday, August 20, 2009 at 2 p.m. has been cancelled.

For further information please contact the Office of the Secretary at (202) 551-5400.

Dated: August 18, 2009.
Florence E. Harmon,
Deputy Secretary.

[FR Doc. E9-20099 Filed 8-19-09; 8:45 am]

BILLING CODE 8010-01-P